Proclamation 9209 of November 7, 2014

World Freedom Day, 2014

By the President of the United States of America

A Proclamation

For nearly three decades, the Berlin Wall divided a nation and stood as one symbol of a system that denied individuals the freedoms that are the right of every person. It separated families and suppressed free will and self-determination—but while it tried to contain the yearnings of a courageous and unwavering people for liberty and justice, it could not crush them. Twenty-five years ago today, Germans from East and West came together to tear down the Wall and begin the work of building an open and prosperous society. On World Freedom Day, we honor a generation that refused to be defined by a wall, and we reaffirm our commitment to stand with all those who seek to join the free world.

The images of this extraordinary event are seared in our memory and enshrined in our history: brave crowds climbing atop an old barrier and Berliners reuniting in city streets. But the victory of 1989 was not inevitable. We will not forget those who risked bullets, dug through tunnels, leapt from buildings, and crossed barbed wire, minefields, and a mighty river in pursuit of freedom. In their struggle—and in the memory of all those who did not live to see Berlin united and free—Americans see our own past, as well as the spirit of citizens around the world who long for opportunity and are willing to do the hard work of building a democracy.

America stood with those on both sides of the Iron Curtain who held fast to the belief that a better future was possible, and as the Berlin Wall fell, it spurred a more integrated, more prosperous, and more secure Europe. Today, Germany is one of our strongest allies. And as we pay tribute to our shared past, we are reminded that upholding peace and security is the responsibility of every nation. There is no progress without sacrifice and no freedom without solidarity, and we cannot shrink from our role of advancing the values in which we believe.

The story of Berlin shows us that with grit and determination, we have the power to shape our own destiny, even in the face of impossible odds. As we celebrate a triumph over tyranny, we also recognize that the challenges to peace and human dignity continue in our complex world and that complacency is not the character of great nations. Let us resolve to extend a hand to those who reach for freedom still and continue the pursuit of peace in our time.

NOW, THEREFORE, I, BARACK OBAMA, President of the United States of America, by virtue of the authority vested in me by the Constitution and the laws of the United States, do hereby proclaim November 9, 2014, as World Freedom Day. I call upon the people of the United States to observe this day with appropriate ceremonies and activities, reaffirming our dedication to freedom and democracy.

IN WITNESS WHEREOF, I have hereunto set my hand this seventh day of November, in the year of our Lord two thousand fourteen, and of the Independence of the United States of America the two hundred and thirty-ninth.

[FR Doc. 2014-26995

Filed 11-12-14; 8:45 am]

Billing code 3295-F5